DEPARTMENT OF COMMERCE

International Trade Administration

[A-201-844, C-489-819]

Steel Concrete Reinforcing Bars From Mexico and Turkey: Continuation of Antidumping Duty and Countervailing Duty Orders

AGENCY: Enforcement and Compliance, International Trade Administration, Department of Commerce.

SUMMARY: As a result of the determinations by the Department of Commerce (Commerce) and the U.S. International Trade Commission (ITC) that revocation of the antidumping duty (AD) order on steel concrete reinforcing bars (rebar) from Mexico and revocation of the countervailing duty (CVD) order on rebar from Turkey would likely lead to continuation or recurrence of dumping, countervailable subsidies, and material injury to an industry in the United States, Commerce is publishing a notice of continuation of these AD and CVD orders.

DATES: Applicable October 22, 2020.

FOR FURTHER INFORMATION CONTACT: Jonathon Hall-Eastman (Mexico) and Jacqueline Arrowsmith (Turkey), AD/CVD Operations, Offices III/VII, Enforcement and Compliance, International Trade Administration, U.S. Department of Commerce, 1401 Constitution Avenue NW, Washington, DC 20230; telephone: (202) 482-1468 and (202) 482-5255, respectively.

SUPPLEMENTARY INFORMATION:

Background

On November 6, 2014, Commerce published the AD order on rebar from Mexico and the CVD order on rebar from Turkey.¹ On October 1, 2019, Commerce initiated the first sunset review of the Orders, pursuant to section 751(c) of the Act.² On October 1, 2019, the ITC instituted its reviews of the Orders.³ As a result of its reviews, Commerce determined, pursuant to sections 751(c)(1) and 752(c) of the Act, that revocation of the AD order on rebar from Mexico would be likely to lead to the continuation or recurrence of dumping and notified the ITC of the magnitude of the margins of dumping likely to prevail should the order be revoked.⁴ Commerce also determined, pursuant to sections 751(c)(1) and 752(b) of the Act, that revocation of the CVD order on rebar from Turkey would be likely to lead to the continuation or recurrence of countervailable subsidies and notified the ITC of the magnitude of the subsidy rates likely to prevail should the order be revoked.⁵

¹ See Steel Concrete Reinforcing Bar from Mexico: Antidumping Duty Order, 79 FR 65925 (November 6, 2014) (AD Order); see also Steel Concrete Reinforcing Bar from the Republic of Turkey: Countervailing Duty Order, 79 FR 65926 (November 6, 2014) (CVD Order) (collectively, Orders).

² See Initiation of Five-Year (Sunset) Reviews, 84 FR 52067 (October 1, 2019) (Initiation Notice).

³ See Steel Concrete Reinforcing Bar from Mexico and Turkey; Institution of Five-Year Reviews, 84 FR 52126 (October 1, 2019).

⁴ See Steel Concrete Reinforcing Bars (Rebar) From Mexico: Final Results of Expedited Sunset Review of Antidumping Duty Order, 85 FR 6512 (February 5, 2020).

⁵ See Steel Concrete Reinforcing Bar from the Republic of Turkey: Final Results of the Expedited First Sunset Review of the Countervailing Duty Order, 85 FR 4945 (January 28, 2020).

On October 16, 2020, the ITC published its determination, pursuant to sections 751(c) and 752(a) of the Act, that revocation of the AD order on rebar from Mexico and the CVD order on rebar from Turkey would be likely to lead to continuation or recurrence of material injury to an industry in the United States within a reasonably foreseeable time.⁶

⁶ See Steel Concrete Reinforcing Bar from Mexico and Turkey, 85 FR 65873 (October 16, 2020).

Scope of the Orders

The merchandise subject to these orders is steel concrete reinforcing bar imported in either straight length or coil form (rebar) regardless of metallurgy, length, diameter, or grade. The subject merchandise is classifiable in the Harmonized Tariff Schedule of the United States (HTSUS) primarily under item numbers 7213.10.0000, 7214.20.0000, and 7228.30.8010. The subject merchandise may also enter under other HTSUS numbers including 7215.90.1000, 7215.90.5000, 7221.00.0015, 7221.00.0030, 7221.00.0045, 7222.11.0001, 7222.11.0057, 7222.11.0059, 7222.30.0001, 7227.20.0080, 7227.90.6085, 7228.20.1000, and 7228.60.6000. Specifically excluded are plain rounds (i.e., non-deformed or smooth rebar). Also excluded from the scope is deformed steel wire meeting ASTM A1064/A1064M with no bar markings (e.g., mill mark, size or grade) and without being subject to an elongation test. HTSUS numbers are provided for convenience and customs purposes; however, the written description of the scope remains dispositive.

Continuation of the Orders

As a result of the determinations by Commerce and the ITC that revocation of the AD and CVD orders would likely lead to continuation or recurrence of dumping, countervailable subsidies, and material injury to an industry in the United States, pursuant to section 751(d)(2) of the Act, Commerce hereby orders the continuation of the AD order on rebar from Mexico and the CVD order on rebar from Turkey.

U.S. Customs and Border Protection will continue to collect AD and CVD cash deposits at the rates in effect at the time of entry for all imports of subject merchandise. The effective date of continuation of the Orders will be the date of publication in the Federal Register of this notice of continuation. Pursuant to section 751(c)(2) of the Act, Commerce intends to initiate the next five-year reviews of the Orders not later than 30 days prior to the fifth anniversary of the effective date of continuation.

Notification to Interested Parties

These five-year sunset reviews and this notice are in accordance with section 751(c) of the Act and published pursuant to section 777(i)(1) of the Act and 19 CFR 351.218(f)(4).

Dated: October 16, 2020.
Jeffrey I. Kessler,
Assistant Secretary for Enforcement and Compliance.

[FR Doc. 2020-23428 Filed 10-21-20; 8:45 am]

BILLING CODE 3510-DS-P